DEPARTMENT OF THE INTERIOR

National Park Service

[NPS-NERO-CEBE-37270; PPNECEBE00, PPMPSPD1Z.YM0000]

Cedar Creek and Belle Grove National Historical Park Advisory Commission Notice of Public Meetings

AGENCY: National Park Service, Interior.

ACTION: Meeting notice.

SUMMARY: In accordance with the Federal Advisory Committee Act of 1972, as amended, the National Park Service is hereby giving notice that the Cedar Creek and Belle Grove National Historical Park Advisory Commission (Commission) will meet as indicated below.

DATES: The Commission will meet on Thursday, March 21, 2024; Thursday, June 20, 2024; Thursday, September 19, 2024; and Thursday, December 19, 2024. All scheduled meetings will begin at 9 a.m. and will end by 11 a.m. (EASTERN).

ADDRESSES: The March 21, 2024, and December 19, 2024, meetings will be held via teleconference and in-person at Warren County Government Center, 220 North Commerce Avenue, Front Royal, VA 22630. The June 20, 2024, and September 19, 2024, meetings will be held via teleconference and in-person at the Middletown Town Hall Council Chambers, 7875 Church Street, Middletown, VA 22645. Information on joining the teleconference will be available on the Cedar Creek and Belle Grove National Park website at https://www.nps.gov/cebe/learn/management/park-advisory-commission.htm.

FOR FURTHER INFORMATION CONTACT: Karen Beck-Herzog, Site Manager, Cedar Creek and Belle Grove National Historical Park, P.O. Box 700, Middletown, Virginia 22645, telephone (540) 868-9176, email karen_beck_herzog@nps.gov, or visit the park website: https://www.nps.gov/cebe/index.htm. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Commission was established by Congress to provide advice to the Secretary of the Interior on the preparation and implementation of the park's general management plan and to advise on land protection (16 U.S.C. 410iii-7). The meeting is open to the public. Individuals who are interested in the park, the implementation of the plan, or the business of the Commission are encouraged to attend the meeting. Interested members of the public may present, either orally or through written comments, information for the Commission to consider during the public meeting. Attendees and those wishing to provide comment are strongly encouraged to preregister through the contact information provided. Written comments may be sent to Karen Beck-Herzog (see FOR FURTHER INFORMATION CONTACT). All comments received will be provided to the Commission. A detailed final agenda will be posted 48 hours in advance of the meeting on the Commission's website at https://www.nps.gov/cebe/learn/management/park-advisory-commission.htm. If a meeting date and location are changed, the Superintendent will issue a press release and use local newspapers and/or radio stations to announce the rescheduled meeting. Detailed minutes of the meeting will be available for public inspection within 90 days of the meeting.

Purpose of the Meeting: The topics to be discussed include: general management plan next steps, visitor services and interpretation, land protection planning, historic preservation, and natural resource protection.

Commission meetings consist of the following:

1. General Introductions

2. Park Operations Briefing

3. Reports and Discussions

4. Old Business

5. New Business

6. Public Comments

7. Closing Remarks

Meeting Accessibility/Special Accommodations: The meeting is open to the public. Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Public Disclosure of Comments: Before including your address, phone number, email address, or other personal identifying information in your comment, you should be aware that your entire comment—including your personal identifying information—may be made publicly available at any time. While you can ask us in your comment to withhold your personal identifying information from public view, we cannot guarantee that we will be able to do so.

(Authority: 5 U.S.C. Ch. 10)

Alma Ripps,
Chief, Office of Policy.

[FR Doc. 2024-04201 Filed 2-28-24; 8:45 am]

BILLING CODE 4312-52-P